OFFICE OF PERSONNEL MANAGEMENT

5 CFR Part 950

RIN 3206-AM68

Solicitation of Federal Civilian and Uniformed Service Personnel for Contributions to Private Voluntary Organizations

AGENCY: Office of Personnel Management.

ACTION: Final rule; delay of effective date.

SUMMARY: The United States Office of Personnel Management (OPM) is issuing a final rule to change the effective date of previously published Combined Federal Campaign regulations to January 1, 2017.

DATES: The effective date of the regulations published in the Federal Register on April 17, 2014 (79 FR 21581) is delayed until January 1, 2017.

Regarding funds contributed to the CFC during the 2016 campaign year, LFCCs and PCFOs will continue to operate, disburse funds, and submit to compliance requirements in accordance with regulations in 5 CFR part 950 as amended at 71 FR 67284, Nov. 20, 2006.

FOR FURTHER INFORMATION CONTACT: Mary Capule by telephone at (202) 606-2564; by FAX at (202) 606-5056; or by email at cfc@opm.gov.

SUPPLEMENTARY INFORMATION: The U.S. Office of Personnel Management (OPM) issued a Notice of Proposed Rulemaking on August 17, 2015 to amend 5 CFR part 950 to change the effective date of the new rule from January 1, 2016 to January 1, 2017. During the comment period, OPM received two comments, including one from a Federal agency and one from a Local Federal Coordinating Committee (LFCC). These comments are addressed below.

The Department of Defense expressed its support for the amendment to allow additional time to test new systems before they are deployed. The Greater Arkansas CFC LFCC requested clarification on the process by which a contract will be awarded to a vendor to serve as the Central Campaign Administrator and the method by which the system will be tested.

The revision involves the change of the effective date of the new CFC regulations published in the Federal Register on April 17, 2014. The new effective date for the CFC regulations would ensure that the tools need to put these reforms in place—including the pivotal online charity application and donor pledging systems—are thoroughly tested and fully operational before being made available to charities and donors.

On August 17, 2015 (80 FR 49173), OPM published a proposed rule with requests for public comment in the Federal Register. The Agency received two comments, neither of which opposed the change of date. It is therefore publishing the proposed rule as final without change.

Regulatory Flexibility Act

I certify that this regulation will not have a significant economic impact on a substantial number of small entities. Charitable organizations applying to the CFC have an existing, independent obligation to comply with the eligibility and public accountability standards contained in current CFC regulations. Streamlining these standards will be less burdensome.

Executive Orders 12866 and 13563, Regulatory Review

This rule has been reviewed by the Office of Management and Budget in accordance with Executive Orders 12866 and 13563.

List of Subjects in 5 CFR Part 950

Administrative practice and procedures, Charitable contributions, Government employees, Military personnel, Nonprofit organizations and Reporting and recordkeeping requirements.

U.S. Office of Personnel Management.
Beth F. Cobert,
Acting Director.

[FR Doc. 2015-27009 Filed 10-22-15; 8:45 am]

BILLING CODE 6325-58-P